DEPARTMENT OF TRANSPORTATION

Federal Aviation Administration

Notice of Meetings; A Notice by the Federal Aviation Administration

AGENCY: Federal Aviation Administration (FAA), Department of Transportation (DOT).

ACTION: Notice of meeting.

SUMMARY: The Federal Aviation Administration (FAA) is announcing the upcoming meetings of the International Aircraft Materials Fire Test Forum (IAMFTF) and the International Aircraft Systems Fire Protection Forum (IASFPF). The IAMFTF and IASFPF were established to provide a forum for interested parties to review and provide feedback on FAA fire safety research driven by current and emerging aircraft systems fire threats and test methods. This notification provides details of where to find the date, location, and agenda for the upcoming meetings.

Date and Location: The meeting dates and locations are determined based upon the availability of host organizations to provide meeting space. The FAA Fire Safety Branch website (https://www.fire.tc.faa.gov/Meetings/meetings.asp) contains all information for upcoming meetings and meeting registration. The meetings are open to the public but due to limited capacity, registration is mandatory.

FOR FURTHER INFORMATION CONTACT: April Horner, Meeting Coordinator, William J. Hughes Technical Center, Building 287, Atlantic City International Airport, NJ 08405, telephone: (609) 485-4471, email: april.ctr.horner@faa.gov.

SUPPLEMENTARY INFORMATION: The IAMFTF and IASFPF began in the early 1990's as forums to discuss aircraft fire safety research.

The IAMFTF began in 1991 to provide a forum for discussion of aircraft materials fire test methods, and to enable interested parties to contribute to improvement of those test methods through research. The IAMFTF also provides a setting to share research information generated by the FAA as well as other entitites. Topics include tests to assess flammability properties of thermal/acoustic insulation, composite structure, electrical wiring and non-tradtional metal alloys. The meetings typically occur 3 times per year in the spring, summer and fall, and are facilitated by the Fire Safety Branch at the FAA's William J. Hughes Technical Center.

The IASFPF began as a forum to discuss research and development (R&D) on replacements of Halon fire extguishing agents in October 1993. The IASFPF originally focused on R&D into minimum performance standards and test methodologies for non-halon aircraft fire suppression agents/systems in cargo compartments, engine nacelles, hand held extinguishers, and lavatory trash receptacles. The IASFPF's focus has expanded to include a forum for R&D for all aircraft system fire protection. The meetings occur twice per year, typically in May and October and are also facilitated by the Fire Safety Branch at the FAA's William J. Hughes Technical Center.

Topics include research into minimum performance standards for aircraft handheld extinguishers, cargo compartment fire suppression systems, and engine nacelles. Halon replacement agents for these areas are also discussed. Additionally, topics such as research on powerplants fire testing, lithium batteries, fuel cells, fuel tank explosion protection (including fuel flammability, nitrogen inerting, other methods of explosion protection), fire protection in hidden areas of the aircraft, and fire detection R&D are discussed in the IASFPF.

The IAMFTF and IASFPF meetings follow a town hall style format. Neither has a standing membership, nor is an advisory body and do not make recommendations on regulations or policy. Any technical research issues that have future relevance to regulations or policy will be handled through the formal processes in place to include full public participation.

The meetings are open to the public, and are typically attended by the international aviation community including industry, government, and academia with an interest in aircraft fire protection systems. Due to limited capacity, advanced registration is required to attend.

Agenda for the 2018 IAMFTF and IASFPF Meetings

An agenda will be published at least one month in advance of each meeting on the FAA Fire Safety Branch website (https://www.fire.tc.faa.gov).

Attendance at the Upcoming Meetings

Interested persons may attend the meeting. Because seating is limited, if you plan to attend please register in advance on the FAA Fire Safety Branch website (https://www.fire.tc.faa.gov) so that meeting space may be made to accommodate all attendees.

Record of the Meeting

A meeting summary for the IAMFTF and IASFPF meetings will be posted on the FAA Fire Safety Branch website (https://www.fire.tc.faa.gov) after the conclusion of the meeting. Issued on 07/31/2018.

David Blake,
Manager, Fire Safety Branch, ANG-E21.

[FR Doc. 2018-16962 Filed 8-7-18; 8:45 am]

BILLING CODE 4910-13-P